DEPARTMENT OF ENERGY

Federal Energy Regulatory Commission

Combined Notice of Filings #1

November 21, 2007.

Take notice that the Commission received the following electric corporate filings:

Docket Numbers: EC08-14-000.

Applicants: Delta Person Limited Partnership.

Description: Delta Person Limited Partnership submits an application for authorization for disposition of jurisdictional facilities and request for expedited action under EC08-14.

Filed Date: 11/15/2007.

Accession Number: 20071119-0021.

Comment Date: 5 p.m. Eastern Time on Thursday, December 06, 2007.

Docket Numbers: EC08-16-000.

Applicants: Camp Grove Wind Farm LLC; Camp Grove Holding Company LLC; General Electric Capital Corporation; Aircraft Services Corporation.

Description: Application of Camp Grove Wind Farm, LLC et al. for authorization for the sale and transfer of certain membership interests in Camp Grove Holding and on 11/19/07, submit an errata to this filing.

Filed Date: 11/16/2007; 11/19/07.

Accession Number: 20071120-0127.

Comment Date: 5 p.m. Eastern Time on Friday, December 07, 2007.

Take notice that the Commission received the following electric rate filings:

Docket Numbers: ER03-421-014.

Applicants: PPL Wallingford Energy LLC.

Description: Refund Report of PPL Wallingford Energy LLC and PPL EnergyPlus, LLC.

Filed Date: 11/16/2007.

Accession Number: 20071116-5081.

Comment Date: 5 p.m. Eastern Time on Friday, December 07, 2007.

Docket Numbers: ER06-1218-006.

Applicants: PJM Interconnection, LLC.

Description: PJM Interconnection LLC submits revisions to the Amended and Restated Operating Agreement of PJM Interconnection LLC and its OATT to prevent the allocation of transmission rights uplift charges etc.

Filed Date: 11/16/2007.

Accession Number: 20071120-0116.

Comment Date: 5 p.m. Eastern Time on Friday, December 07, 2007.

Docket Numbers: ER07-1289-002.

Applicants: ISO New England Inc.

Description: ISO New England, Inc submits an informational report updating the Commission on changes being made to the Loss Component calculation for the Graham Pnode.

Filed Date: 11/14/2007.

Accession Number: 20071119-0016.

Comment Date: 5 p.m. Eastern Time on Wednesday, December 05, 2007.

Docket Numbers: ER07-1366-001.

Applicants: Central Maine Power Company.

Description: Central Maine Power Company refiles the entire Maine Satellite Agreement, as amended designated as First Revised Rate Schedule FERC 112 in compliance with FERC's order dated 10/18/07.

Filed Date: 11/19/2007.

Accession Number: 20071120-0111.

Comment Date: 5 p.m. Eastern Time on Monday, December 10, 2007.

Docket Numbers: ER08-38-002.

Applicants: Northern Renewable Energy (USA) Ltd.

Description: Northern Renewable Energy (USA) Ltd submits an additional supplement to their 10/10/07 application to provide a description of the relationship of Yuma Power's ultimate individual owners to the energy industry.

Filed Date: 11/16/2007.

Accession Number: 20071120-0105.

Comment Date: 5 p.m. Eastern Time on Friday, November 30, 2007.

Docket Numbers: ER08-74-001.

Applicants: North American Energy Credit and Clearing Corporation.

Description: North American Energy Credit and Clearing Corp submits enclosed for filing one original and six copies of the Filing of Supplemental Information and Substitute Tariff Sheets in the captioned case.

Filed Date: 11/19/2007.

Accession Number: 20071120-0107.

Comment Date: 5 p.m. Eastern Time on Monday, December 10, 2007.

Docket Numbers: ER08-190-001.

Applicants: ISO New England Inc.

Description: ISO New England, Inc submits an Errata to the Informational Filing for Qualification in the Forward Capacity Market filed on 11/6/07.

Filed Date: 11/14/2007.

Accession Number: 20071116-0041.

Comment Date: 5 p.m. Eastern Time on Thursday, November 29, 2007.

Docket Numbers: ER08-197-001.

Applicants: FPL Energy Oliver Wind II, LLC.

Description: FPL Energy Oliver Wind II, LLC submits an amendment to Substitute Original Sheets 1 through 3 to FERC Electric Tariff, Original Volume 1 which was filed on 11/8/07.

Filed Date: 11/16/2007.

Accession Number: 20071120-0112.

Comment Date: 5 p.m. Eastern Time on Friday, December 07, 2007.

Docket Numbers: ER08-198-001.

Applicants: Pacific Gas and Electric Company.

Description: Pacific Gas and Electric Company submits filing and acceptance an annual adjustment to transmission service rate under the Interconnection Agreement between PG&E and Sacramento Municipal Utility District designated as Second Revised PG&E rate etc.

Filed Date: 11/19/2007.

Accession Number: 20071120-0106.

Comment Date: 5 p.m. Eastern Time on Monday, December 10, 2007.

Docket Numbers: ER08-200-001.

Applicants: Waterbury Generation, LLC.

Description: Amendment to Application of Waterbury Generation, LLC for order accepting initial tariff, Waving Regulations, and Granting Blanket Approvals.

Filed Date: 11/19/2007.

Accession Number: 20071120-0108.

Comment Date: 5 p.m. Eastern Time on Monday, December 10, 2007.

Docket Numbers: ER08-225-000.

Applicants: Westar Energy, Inc.

Description: Kansas Gas and Electric Co and Westar Energy, Inc submits a notice of cancellation of an Electric Power Supply Agreement with the City of Blue Mound, Kansas.

Filed Date: 11/16/2007.

Accession Number: 20071119-0012.

Comment Date: 5 p.m. Eastern Time on Friday, December 07, 2007.

Docket Numbers: ER08-226-000.

Applicants: Westar Energy, Inc.

Description: Kansas Gas and Electric Co and Westar Energy, Inc submits a notice of cancellation of an Electric Power Supply Agreement with the City of Bronson, Kansas.

Filed Date: 11/16/2007.

Accession Number: 20071119-0013.

Comment Date: 5 p.m. Eastern Time on Friday, December 07, 2007.

Docket Numbers: ER08-227-000.

Applicants: Westar Energy, Inc.

Description: Kansas Gas and Electric Co and Westar Energy, Inc submits a notice of cancellation of an Electric Power Supply Agreement with the City of Savonburg, Kansas.

Filed Date: 11/16/2007.

Accession Number: 20071119-0014.

Comment Date: 5 p.m. Eastern Time on Friday, December 07, 2007.

Docket Numbers: ER08-228-000.

Applicants: ISO New England Inc.

Description: ISO New England Inc submits a five year budget and accompanying First Revised Sheet 8560 et al. from Section IV.A of the ISO's Transmission, Markets & Service Tariff for the purpose of recovering funding etc.

Filed Date: 11/16/2007.

Accession Number: 20071120-0115.

Comment Date: 5 p.m. Eastern Time on Friday, December 07, 2007.

Docket Numbers: ER08-231-000.

Applicants: Duke Energy Carolinas, LLC.

Description: Duke Energy Carolinas, LLC, submits a revised Network Integration Service Agreement for Network Integration Transmission Service btn Duke & EnergyUnited Electric Membership Corporation.

Filed Date: 11/19/2007.

Accession Number: 20071120-0109.

Comment Date: 5 p.m. Eastern Time on Monday, December 10, 2007.

Take notice that the Commission received the following electric securities filings:

Docket Numbers: ES08-3-001.

Applicants: Kansas City Power & Light Company.

Description: Supplement to Section H of Section 204 Financing Application Filed by Kansas City Power & Light Company on October 22, 2007.

Filed Date: 11/15/2007.

Accession Number: 20071115-5004.

Comment Date: 5 p.m. Eastern Time on Thursday, November 29, 2007.

Take notice that the Commission received the following public utility holding company filings:

Docket Numbers: PH08-8-000.

Applicants: Vectren Corporation; Vectren Utility Holdings, Inc.

Description: FERC Form 65 B Waiver Notification of Vectren Corporation.

Filed Date: 11/16/2007.

Accession Number: 20071116-5065.

Comment Date: 5 p.m. Eastern Time on Friday, December 07, 2007.

Take notice that the Commission received the following electric reliability filings:

Docket Numbers: RR08-3-000.

Applicants: North American Electric Reliability Corporation.

Description: Request of the North American Electric Reliability Corp. to Amend the NERC Statement of Compliance Registry Criteria.

Filed Date: 11/13/2007.

Accession Number: 20071113-5098.

Comment Date: 5 p.m. Eastern Time on Tuesday, December 4, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-23327 Filed 11-30-07; 8:45 am]

BILLING CODE 6717-01-P